FEDERAL MINE SAFETY AND HEALTH REVIEW COMMISSION

Sunshine Act Notice

Time and Date: 10 a.m., Thursday, October 7, 2010.

Place: The Richard V. Backley Hearing Room, 9th Floor, 601 New Jersey Avenue, NW., Washington, DC.

Status: Open.

Matters to be Considered: The Commission will consider and act upon the following in open session: Jayson Turner v. National Cement Company of California, Docket No. WEST 2006-568-DM. (Issues include whether the administrative law judge's denial of a miner's discrimination complaint was legally correct and supported by substantial evidence.)

Any person attending this meeting who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. 2010-25379 Filed 10-5-10; 11:15 am]

BILLING CODE 6735-01-P